DEPARTMENT OF ENERGY

Office of Energy Efficiency and Renewable Energy

10 CFR Part 430

RIN 1904-AB54

Energy Conservation Standards for Certain Ceiling Fan Light Kits

AGENCY: Office of Energy Efficiency and Renewable Energy, Department of Energy.

ACTION: Final rule; technical amendment.

SUMMARY: The Department of Energy (DOE) is publishing this technical amendment in order to place in the Code of Federal Regulations the energy conservation standards for ceiling fan light kits with sockets other than medium screw base or pin-based for fluorescent lamps that Congress prescribed in the Energy Policy Act of 2005.

DATES: Effective Date: January 11, 2007.

FOR FURTHER INFORMATION CONTACT: Linda Graves, U.S. Department of Energy, Office of Energy Efficiency and Renewable Energy, Building Technologies Program, EE-2J, 1000 Independence Avenue, SW., Washington, DC 20585-0121, (202) 586-1851, e-mail: Linda.Graves@ee.doe.gov, or Francine Pinto, Esq., U.S. Department of Energy, Office of the General Counsel, Forrestal Building, GC-72, 1000 Independence Avenue, SW., Washington, DC 20585, (202) 586-7432, e-mail: Francine.Pinto@hq.doe.gov.

SUPPLEMENTARY INFORMATION:

Table of Contents

I. Background

II. Summary of Today's Action

III. Procedural Requirements and Regulatory Review

A. Review Under Executive Order 12866

B. Review Under the Regulatory Flexibility Act

C. Review Under the Paperwork Reduction Act of 1995

D. Review Under the National Environmental Policy Act of 1969

E. Review Under Executive Order 13132

F. Review Under Executive Order 12988

G. Review Under the Unfunded Mandates Reform Act of 1995

H. Review Under the Treasury and General Government Appropriations Act, 1999

I. Review Under Executive Order 12630

J. Review Under the Treasury and General Government Appropriations Act, 2001

K. Review Under Executive Order 13211

L. Congressional Notification

IV. Approval of the Office of the Secretary

I. Background

The Energy Policy Act of 2005 (EPACT 2005) (Pub. L. 109-58) was enacted on August 8, 2005. In addition to provisions directing DOE to undertake rulemakings to promulgate new or amended energy conservation standards for various consumer products and commercial and industrial equipment, Congress prescribed new efficiency standards and related definitions for certain consumer products and commercial and industrial equipment.

By today's action, DOE is placing in the Code of Federal Regulations (CFR) the energy conservation standards that Congress prescribed for ceiling fan light kits with sockets other than medium screw base or pin-based for fluorescent lamps. DOE is not exercising its discretionary authority, provided in section 135(c)(4) of EPACT, (42 U.S.C. 6295(ff)(4)(A)) for the Secretary of Energy to consider and issue requirements, by rule, for any ceiling fan lighting kit with sockets other than medium screw base or pin-based for fluorescent lamps. Instead, the Secretary is adopting the statutory standard in section 325(ff)(4)(C) of EPCA. (42 U.S.C. 6295(ff)(4)(C)) That section, which was added by section 135(c)(4) of EPACT 2005, establishes requirements for these ceiling fan light kits if the Department does not take action by January 1, 2007.

In the future, DOE may exercise its discretion under section 325(ff)(5) of EPCA, after January 1, 2010, to consider and issue amended energy conservation standards for all types of ceiling fan light kits.

II. Summary of Today's Action

Section 135(c)(4) of EPACT 2005 amends section 325 of EPCA to, among other things, add subsection (ff) with respect to ceiling fans and ceiling fan light kits. New section 325(ff) establishes design standards for ceiling fans and ceiling fan light kits manufactured on or after January 1, 2007. With respect to ceiling fan light kits, EPACT 2005 created three groupings: (1) Ceiling fan light kits with medium screw base sockets (also called “E26” base types), (2) ceiling fan light kits with pin-based sockets for fluorescent lamps, and (3) ceiling fan light kits with any socket type other than medium screw base or pin-based for fluorescent lamps. For this third group, while the statute specifically mentions the example of candelabra screw base sockets (also called “E12” base types), this group applies to ceiling fan light kits with any socket type other than medium screw base or pin-based for fluorescent lamps. Thus, this third group would include ceiling fan light kits designed with candelabra screw base sockets, intermediate screw-base sockets, 2-pin halogen sockets, bayonet sockets, and all socket types other than medium screw base or pin-based for fluorescent lamps.

In a final rule published on October 18, 2005, DOE codified the statute's requirements for the first two groupings of ceiling fan light kits—medium screw base and pin-based for fluorescent lamps. 70 FR 60413. In today's technical amendment, DOE is codifying the design standards set out in EPCA's new section 325(ff) for the third grouping, ceiling fan light kits with sockets other than medium screw base or pin-based for fluorescent lamps. As previously discussed, section 135(c)(4) of EPACT 2005, among other things, added section 325(ff)(4)(A) of EPCA, which requires DOE to consider issuing requirements for these ceiling fan light kits by January 1, 2007. The time frame normally allocated to conduct an energy conservation standards rulemaking to determine requirements for a consumer product like this is approximately three years. For these ceiling fan light kits, the time frame that was afforded to DOE by the statute was only 17 months from the date of enactment of EPACT 2005 to the date when these requirements must be in place. After reviewing this statutory requirement, and DOE's backlog of rulemakings and the other new consumer product and commercial equipment rulemakings required in EPACT 2005, DOE stated in its Report to Congress:¹

¹ Energy Conservation Standards Activities, Submitted Pursuant to Section 141 of the Energy Policy Act of 2005 and to the Conference Report (109-275) to the FY 2006 Energy and Water Development Appropriations Act; U.S. Department of Energy, January 2006.

With regard to the rulemaking for ceiling fan light kits (other than those with standards prescribed by EPACT 2005), it is not feasible to complete a rulemaking by the EPACT 2005 final rule deadline of January 1, 2007. Since EPACT 2005 includes a standard that is scheduled to go into effect on January 1, 2009, in the event that the Department cannot meet the deadline, the Department plans to adopt and codify the EPACT 2005 standard in fiscal year 2007, conserving Departmental resources for more complex rulemakings with higher potential benefits. Report to Congress at page vi.

Thus, in today's technical amendment, DOE is codifying at 10 CFR 430.32(s), requirements for ceiling fan light kits with sockets other than medium screw base or pin-based for fluorescent lamps. This statutory standard in section 325(ff)(4)(C) of EPCA (42 U.S.C. 6295(ff)(4)(C)), requires that any ceiling fan light kit with sockets other than medium screw base or pin-based for fluorescent lamps manufactured after January 1, 2009, (1) shall not be capable of operating with lamps that total more than 190 watts; and (2) shall include the lamps that total not more than 190 watts in the ceiling fan light kit.

DOE is interpreting these two requirements as design requirements. The first requirement, that ceiling fan light kits shall not be capable of operating with lamps that total more than 190 watts, is being interpreted as requiring manufacturers to incorporate some electrical device or measure, such as a fuse, circuit breaker, or current limiting device, to ensure that the light kit is not capable of operating with a lamp or lamps that draw more than 190 watts. As this is a design requirement, a test procedure is not required to certify compliance. Moreover, this interpretation is consistent with DOE's interpretation of a similar requirement under EPACT 2005 for torchieres. 71 FR 71340 (December 8, 2006).

The second requirement, that the ceiling fan light kit shall include lamps that total not more than 190 watts, is being interpreted by DOE as a packaging requirement with two parts: first, that the kits are to be packaged with lamps and second, that the total wattage of all the lamps packaged with the ceiling fan light kit shall not exceed 190 watts. A test procedure is not required to demonstrate compliance with either of these two provisions of the second requirement. Manufacturers can certify without a test procedure that lamps are included in the ceiling fan light kit packaging and that the sum of the total rated wattages of all the lamps packaged with the kit do not exceed 190 watts.

EPCA defines the term “manufacture” as “to manufacture, produce, assemble, or import.” (42 U.S.C. 6291(10)) Starting on January 1, 2009, all ceiling fan light kits covered by this final rule must, on the date of manufacture, or in the case of imported products, as of the date of import, meet the standards set forth in today's rule. These requirements apply to the manufacture of covered consumer products for sale in the 50 States as well as all U.S. territories.

As background context for how EPACT addressed the two categories of ceiling fan light kits not covered by this rulemaking, i.e., those with medium screw base sockets and pin-based sockets for fluorescent lamps, the prescribed energy conservation standards for these two types of ceiling fan light kits took effect on January 1, 2007. While products are required to be compliant with the mandatory standards from that effective date, manufacturers are not required to report under DOE's compliance certification and enforcement programs until DOE finalizes its certification and compliance procedures for new covered products and commercial equipment. DOE published a notice of proposed rulemaking on July 25, 2006, which proposed certification and enforcement provisions for a range of products, including all types of ceiling fan light kits. 71 FR 42178. Although manufacturers are not subject to DOE certification and enforcement programs until DOE promulgates the final rule on certification and enforcement, manufacturers must meet the required standards for ceiling fan light kits with medium screw base and pin-based for fluorescent lamps starting January 1, 2007. When the certification and enforcement procedures are finalized, manufacturers must represent to DOE that the ceiling fan light kits for which there are effective standards and packaging requirements set by EPACT 2005 are compliant.

III. Procedural Requirements

A. Review Under Executive Order 12866

Today's final rule is not a “significant regulatory action” under section 3(f)(1) of Executive Order 12866, “Regulatory Planning and Review,” 58 FR 51735 (October 4, 1993). Accordingly, today's action was not subject to review by the Office of Information and Regulatory Affairs (OIRA) in the Office of Management and Budget (OMB).

B. Review Under the Regulatory Flexibility Act

The Regulatory Flexibility Act (5 U.S.C. 601 et seq.) requires preparation of an initial regulatory flexibility analysis for any rule that by law must be proposed for public comment, unless the agency certifies that the rule, if promulgated, will not have a significant economic impact on a substantial number of small entities. As required by Executive Order 13272, “Proper Consideration of Small Entities in Agency Rulemaking,” 67 FR 53461 (August 16, 2002), DOE published procedures and policies on February 19, 2003, to ensure that the potential impacts of its rules on small entities are properly considered during the rulemaking process. 68 FR 7990. The Department has made its procedures and policies available on the Office of the General Counsel's Web site: http://www.gc.doe.gov. DOE today is revising the Code of Federal Regulations to incorporate, without substantive change, energy conservation standards prescribed by Congress in the Energy Policy Act of 2005. Because this is a technical amendment for which a general notice of proposed rulemaking is not required, the Regulatory Flexibility Act does not apply to this rulemaking.

C. Review Under the Paperwork Reduction Act of 1995

This rulemaking will impose no new information or recordkeeping requirements. Accordingly, OMB clearance is not required under the Paperwork Reduction Act. (44 U.S.C. 3501 et seq.)

D. Review Under the National Environmental Policy Act of 1969

DOE has determined that this rule is covered under the Categorical Exclusion found in DOE's National Environmental Policy Act regulations at paragraph A.6 of Appendix A to Subpart D, 10 CFR part 1021, which applies to rulemakings that are strictly procedural. Accordingly, neither an environmental assessment nor an environmental impact statement is required.

In this instance, DOE is merely codifying the design standards set out in EPACT 2005 section 325(ff)(4)(C) (42 U.S.C. 6295(ff)(4)(C)) for ceiling fan light kits with sockets other than medium screw base or pin-based for fluorescent lamps. EPACT 2005 gives DOE the authority to conduct a rulemaking for this equipment by January 1, 2007. However, EPACT 2005 also provided that if DOE does not issue a final rule by this statutory deadline, the design standards referenced above would become effective for equipment manufactured after January 1, 2009. DOE is not exercising any discretion in today's final rule.

E. Review Under Executive Order 13132

Executive Order 13132, “Federalism,” 64 FR 43255 (August 4, 1999), imposes certain requirements on agencies formulating and implementing policies or regulations that preempt State law or that have federalism implications. The Executive Order requires agencies to examine the constitutional and statutory authority supporting any action that would limit the policymaking discretion of the States and to carefully assess the necessity for such actions. The Executive Order also requires agencies to have an accountable process to ensure meaningful and timely input by State and local officials in the development of regulatory policies that have federalism implications. On March 14, 2000, DOE published a statement of policy describing the intergovernmental consultation process it will follow in the development of such regulations. 65 FR 13735. DOE examined this final rule and determined that it does not have a substantial direct effect on the States, on the relationship between the National Government and the States, or on the distribution of power and responsibilities among the various levels of government. EPCA governs and prescribes Federal preemption of State regulations as to energy conservation for the products that are the subject of today's rule. States can petition DOE for exemption to the extent, and based on criteria, set forth in EPCA. (42 U.S.C. 6297) No further action is required by Executive Order 13132.

F. Review Under Executive Order 12988

With respect to the review of existing regulations and the promulgation of new regulations, section 3(a) of Executive Order 12988, “Civil Justice Reform,” 61 FR 4729 (February 7, 1996), imposes on Federal agencies the general duty to adhere to the following requirements: (1) Eliminate drafting errors and ambiguity; (2) write regulations to minimize litigation; and (3) provide a clear legal standard for affected conduct rather than a general standard and promote simplification and burden reduction. Section 3(b) of Executive Order 12988 specifically requires that Executive agencies make every reasonable effort to ensure that the regulation: (1) Clearly specifies the preemptive effect, if any; (2) clearly specifies any effect on existing Federal law or regulation; (3) provides a clear legal standard for affected conduct while promoting simplification and burden reduction; (4) specifies the retroactive effect, if any; (5) adequately defines key terms; and (6) addresses other important issues affecting clarity and general draftsmanship under any guidelines issued by the Attorney General. Section 3(c) of Executive Order 12988 requires Executive agencies to review regulations in light of applicable standards in section 3(a) and section 3(b) to determine whether they are met or it is unreasonable to meet one or more of them. DOE has completed the required review and determined that, to the extent permitted by law, this final rule meets the relevant standards of Executive Order 12988.

G. Review Under the Unfunded Mandates Reform Act of 1995

Title II of the Unfunded Mandates Reform Act of 1995 (UMRA) (Pub. L. 104-4) requires each Federal agency to assess the effects of Federal regulatory actions on State, local, and tribal governments and the private sector. For a proposed regulatory action likely to result in a rule that may cause the expenditure by State, local, and tribal governments, in the aggregate, or by the private sector of $100 million or more in any one year (adjusted annually for inflation), section 202 of UMRA requires a Federal agency to publish a written statement that estimates the resulting costs, benefits, and other effects on the national economy. (2 U.S.C. 1532(a), (b)) The UMRA also requires a Federal agency to develop an effective process to permit timely input by elected officers of State, local, and tribal governments on a proposed “significant intergovernmental mandate,” and requires an agency plan for giving notice and opportunity for timely input to potentially affected small governments before establishing any requirements that might significantly or uniquely affect small governments. On March 18, 1997, DOE published a statement of policy on its process for intergovernmental consultation under UMRA (62 FR 12820) (also available at http://www.gc.doe.gov). This final rule contains neither an intergovernmental mandate nor a mandate that may result in the expenditure of $100 million or more in any year, so these requirements under the Unfunded Mandates Reform Act do not apply.

H. Review Under the Treasury and General Government Appropriations Act, 1999

Section 654 of the Treasury and General Government Appropriations Act, 1999 (Pub. L. 105-277) requires Federal agencies to issue a Family Policymaking Assessment for any rule that may affect family well-being. This final rule would not have any impact on the autonomy or integrity of the family as an institution. Accordingly, DOE has concluded that it is not necessary to prepare a Family Policymaking Assessment.

I. Review Under Executive Order 12630

The Department has determined, under Executive Order 12630, “Governmental Actions and Interference with Constitutionally Protected Property Rights,” 53 FR 8859 (March 18, 1988), that this rule would not result in any takings which might require compensation under the Fifth Amendment to the United States Constitution.

J. Review Under the Treasury and General Government Appropriations Act, 2001

Section 515 of the Treasury and General Government Appropriations Act, 2001 (44 U.S.C. 3516 note) provides for agencies to review most disseminations of information to the public under guidelines established by each agency pursuant to general guidelines issued by OMB. OMB's guidelines were published at 67 FR 8452 (February 22, 2002), and DOE's guidelines were published at 67 FR 62446 (October 7, 2002). DOE has reviewed today's notice under the OMB and DOE guidelines and has concluded that it is consistent with applicable policies in those guidelines.

K. Review Under Executive Order 13211

Executive Order 13211, “Actions Concerning Regulations That Significantly Affect Energy Supply, Distribution, or Use,” 66 FR 28355 (May 22, 2001), requires Federal agencies to prepare and submit to the Office of Information and Regulatory Affairs (OIRA), OMB, a Statement of Energy Effects for any proposed significant energy action. A “significant energy action” is defined as any action by an agency that promulgated or is expected to lead to promulgation of a final rule, and that: (1) Is a significant regulatory action under Executive Order 12866, or any successor order; and (2) is likely to have a significant adverse effect on the supply, distribution, or use of energy, or (3) is designated by the Administrator of OIRA as a significant energy action. For any proposed significant energy action, the agency must give a detailed statement of any adverse effects on energy supply, distribution, or use should the proposal be implemented, and of reasonable alternatives to the action and their expected benefits on energy supply, distribution, and use. This final rule would not have a significant adverse effect on the supply, distribution, or use of energy and, therefore, is not a significant energy action. Accordingly, DOE has not prepared a Statement of Energy Effects.

L. Congressional Notification

As required by 5 U.S.C. 801, DOE will report to Congress on the promulgation of this rule prior to its effective date. The report will state that it has been determined that the rule is not a “major rule” as defined by 5 U.S.C. 804(2).

IV. Approval of the Office of the Secretary

The Secretary of Energy has approved publication of today's final rule.

List of Subjects in 10 CFR Part 430

Administrative practice and procedure, Energy conservation, Household appliances.

Issued in Washington, DC, on December 29, 2006.
Alexander A. Karsner,
Assistant Secretary, Energy Efficiency and Renewable Energy.

For the reasons set forth in the preamble, DOE hereby amends Chapter II, Subchapter D of Title 10, of the Code of Federal Regulations as set forth below:

PART 430—ENERGY CONSERVATION PROGRAM FOR CONSUMER PRODUCTS

1. The authority citation for part 430 continues to read as follows:

Authority: 42 U.S.C. 6291-6309; 28 U.S.C. 2461 note.

2. Section 430.32 of subpart C is amended by adding new paragraph (s)(4) to read as follows:

§ 430.32 Energy and water conservation standards and effective dates.

* * * * *

(s) Ceiling fans and ceiling fan light kits.

* * * * *

(4) Ceiling fan light kits with socket types other than those covered in paragraphs (2) and (3) of this section, including candelabra screw base sockets, manufactured on or after January 1, 2009—

(i) Shall not be capable of operating with lamps that total more than 190 watts; and

(ii) Shall be packaged to include the lamps described in clause (i) with the ceiling fan light kits.

* * * * *

[FR Doc. E7-230 Filed 1-10-07; 8:45 am]

BILLING CODE 6450-01-P